DEPARTMENT OF LABOR

Occupational Safety and Health Administration

[Docket No. OSHA-2016-0005]

Preparations for the 31st Session of the UN Sub-Committee of Experts on the Globally Harmonized System of Classification and Labelling of Chemicals (UNSCEGHS)

AGENCY: Occupational Safety and Health Administration (OSHA), Department of Labor.

ACTION: Notice of public meeting.

SUMMARY: This notice is to advise interested persons that on Tuesday, June 14, 2016, OSHA will conduct a public meeting to discuss proposals in preparation for the 31st session of the United Nations Sub-Committee of Experts on the Globally Harmonized System of Classification and Labelling of Chemicals (UNSCEGHS) to be held July 5 to July 8, 2016 in Geneva, Switzerland. OSHA, along with the U.S. Interagency GHS (Globally Harmonized System of Classification and Labelling of Chemicals) Coordinating Group, plans to consider the comments and information gathered at this public meeting when developing the U.S. Government positions for the UNSCEGHS meeting. Members of the Regulatory Cooperation Council (RCC) will be present to update Canada's status of their GHS policy and procedures. International conference call capability will be available for this portion of the public meeting.

Also, on Tuesday, June 14, 2016, the Department of Transportation (DOT), Pipeline and Hazardous Materials Safety Administration (PHMSA) will conduct a public meeting (See Docket No. PHMSA-2016-0060, Notice No. 16-7) to discuss proposals in preparation for the 49th session of the United Nations Sub-Committee of Experts on the Transport of Dangerous Goods (UNSCE TDG) to be held June 27 to July 6, 2016, in Geneva, Switzerland. During this meeting, PHMSA is also requesting comments relative to potential new work items that may be considered for inclusion in its international agenda. PHMSA will also provide an update on recent actions to enhance transparency and stakeholder interaction through improvements to the international standards portion of its Web site.

DATES: Tuesday June 14, 2016.

ADDRESSES: Both meetings will be held at the DOT Headquarters Conference Center, West Building, 1200 New Jersey Avenue SE., Washington, DC 20590.

Times and Locations:

PHMSA public meeting: 9:00 a.m. to 12:00 p.m. EDT, Conference Room 4.

OSHA public meeting: 1:00 p.m. to 4:00 p.m. EDT, Conference Room 4.

Advanced Meeting Registration: The DOT requests that attendees pre-register for these meetings by completing the form at: https://www.surveymonkey.com/r/Q3Z53PT.Attendees may use the same form to pre-register for both the PHMSA and the OSHA meetings. Failure to pre-register may delay your access into the DOT Headquarters building. Additionally, if you are attending in-person, arrive early to allow time for security checks necessary to access the building. Conference call-in and “live meeting” capability will be provided for both meetings.

The number is reserved and the Live Meeting link is setup for all day.

Toll Free (USA):

Toll Free: 888-675-2535

Access code: 3614708

International callers:

International Toll: 215-446-0145

Access: 3614708

Attendee URL: https://meet.dot.gov/steven.webb/66C89T9M

FOR FURTHER INFORMATION CONTACT: At the Department of Transportation, please contact Mr. Steven Webb or Mr. Aaron Wiener, Office of Hazardous Materials Safety, Department of Transportation, Washington, DC 20590, telephone: (202) 366-8553.

At the Department of Labor, please contact Maureen Ruskin, Office of Chemical Hazards-Metals, OSHA Directorate of Standards and Guidance, Department of Labor, Washington DC 20210, telephone: (202) 693-1950, email: ruskin.maureen@dol.gov.

SUPPLEMENTARY INFORMATION: The OSHA Meeting: OSHA is hosting an open informal public meeting of the U.S. Interagency GHS Coordinating Group to provide interested groups and individuals with an update on GHS-related issues and an opportunity to express their views orally and in writing for consideration in developing U.S. Government positions for the upcoming UNSCEGHS meeting.

General topics on the agenda include:

• Review of Working papers

• Correspondence Group updates

• Regulatory Cooperation Council (RCC) Update

Information on the work of the UNSCEGHS including meeting agendas, reports, and documents from previous sessions, can be found on the United Nations Economic Commission for Europe (UNECE) Transport Division Web site located at the following web address; http://www.unece.org/trans/danger/publi/ghs/ghs_welcome_e.html.

The UNSCEGHS bases its decisions on Working Papers. The Working Papers for the 31st session of the UNSCEGHS are located at: http://www.unece.org/trans/main/dgdb/dgsubc4/c42016.html.

Informal Papers submitted to the UNSCEGHS provide information for the Sub-committee and are used either as a mechanism to provide information to the Sub-committee or as the basis for future Working Papers. Informal Papers for the 31st session of the UNSCEGHS are located at: http://www.unece.org/trans/main/dgdb/dgsubc4/c4inf31.html.

In addition to participating at the Public meeting, interested parties may submit comments on the Working and Informal Papers for the 31st session of the UNSCEGHS to the docket established for International/Globally Harmonized System (GHS) efforts at http://www.regulations.gov, Docket No. OSHA-2016-0005.

The PHMSA Meeting: The Federal Register notice and additional detailed information relating to PHMSA's public meeting will be available upon publication at http://www.regulations.gov (Docket No. PHMSA-2016-0060, Notice No. 16-7), and on the PHMSA Web site at: http://www.phmsa.dot.gov/hazmat/regs/international.The primary purpose of PHMSA's meeting will be to prepare for the 49th session of the UNSCE TDG. The 49th session of the UNSCE TDG is the third of four meetings scheduled for the 2015-2016 biennium. The UNSCE TDG will consider proposals for the 20th Revised Edition of the United Nations Recommendations on the Transport of Dangerous Goods Model Regulations, which may be implemented into relevant domestic, regional, and international regulations from January 1, 2019. Copies of working documents, informal documents, and the meeting agenda may be obtained from the United Nations Transport Division's Web site at http://www.unece.org/trans/danger/danger.html.

Authority and Signature: This document was prepared under the direction of David Michaels, Ph.D., MPH, Assistant Secretary of Labor for Occupational Safety and Health, U.S. Department of Labor, pursuant to sections 4, 6, and 8 of the Occupational Safety and Health Act of 1970 (29 U.S.C. 653, 655, 657), and Secretary's Order 1-2012 (77 FR 3912), (Jan. 25, 2012).

Signed at Washington, DC, on, May 23, 2016.
David Michaels,
Assistant Secretary of Labor for Occupational Safety and Health.

[FR Doc. 2016-12455 Filed 5-25-16; 8:45 am]

BILLING CODE 4510-26-P